DEPARTMENT OF TRANSPORTATION

Maritime Administration

[Docket Number MARAD-2026-0068]

Request for Comments on the Renewal of a Previously Approved Information Collection: Mariner Cadet Training-Agreements, Compliance Reporting, and Audits

AGENCY: Maritime Administration (MARAD), Department of Transportation (DOT).

ACTION: Notice and request for comments.

SUMMARY: MARAD invites public comments on our intention to request the Office of Management and Budget (OMB) approval for a currently approved emergency information collection. Before a Federal agency can collect certain information from the public, it must receive approval from OMB. Under procedures established by the Paperwork Reduction Act of 1995, before seeking OMB approval, Federal agencies must solicit public comment on proposed collection of information, including extensions and reinstatements of previously approved collections. A Federal Register Notice with a 60-day comment period soliciting comments on the following information collection was published on November 28, 2025.

DATES: Comments must be submitted on or before February 26, 2026.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Jennifer Pralgo, 202-309-7187, Office of Cadet Training At-Sea Safety (MAR-660), Maritime Administration, 1200 New Jersey Avenue SE, Washington, DC 20590, email: jennifer.pralgo@dot.gov.

SUPPLEMENTARY INFORMATION:

Title: Mariner Cadet Training-Agreements, Compliance Reporting, and Audits.

OMB Control Number: 2133-0553.

Type of Request: Extension of a currently approved collection.

Abstract: In accordance with its delegation of authority at 49 CFR 1.93(a), and pursuant to 46 U.S.C. 50101(a)(4), MARAD is charged with ensuring that the United States Merchant Marine is manned with trained and efficient citizen personnel. Furthermore, 46 U.S.C. 51322 requires MARAD to protect cadet mariners from sexual assault onboard vessels, establish sexual assault policy, and conduct random and targeted unannounced checks of commercial vessels. MARAD must obtain information from commercial vessel operators to meet its statutory objectives of setting sexual assault policy and monitoring compliance, which are essential to its mission of ensuring a well-trained U.S. Merchant Marine. MARAD uses information compiled through this collection to confirm acceptance of sexual assault policies by commercial vessel operators. This collection also establishes a process to oversee and monitor continued sexual assault policy compliance through reporting and auditing of commercial vessel operators, during initial enrollment and subsequent Sea Years.

Respondents: Commercial vessel operators employing United States Merchant Marine cadets onboard their vessels.

Affected Public: Individuals and households.

Estimated Number of Respondents: 75.

Estimated Number of Responses: 1.

Estimated Hours per Response: .25 to 6 hours.

Annual Estimated Total Annual Burden Hours: 108.75.

Frequency of Response: Once annually and/or following incident of a sexual assault or harassment.

(Authority: The Paperwork Reduction Act of 1995; 44 U.S.C. Chapter 35, as amended; and 49 CFR 1.93.)

By Order of the Maritime Administrator.
T. Mitchell Hudson, Jr.,
Secretary, Maritime Administration.

[FR Doc. 2026-01582 Filed 1-26-26; 8:45 am]

BILLING CODE 4910-81-P